DEPARTMENT OF COMMERCE

National Oceanic and Atmospheric Administration

[RTID 0648-XE670]

Pacific Fishery Management Council; Public Meeting

AGENCY: National Marine Fisheries Service (NMFS), National Oceanic and Atmospheric Administration (NOAA), Commerce.

ACTION: Notice of a public online meeting.

SUMMARY: The Pacific Fishery Management Council (Pacific Council) and the NMFS Northwest Fisheries Science Center will convene a virtual pre-assessment workshop to review proposed data and modeling approaches to inform groundfish stock assessments for rougheye/blackspotted rockfish and sablefish scheduled for assessment during 2025. The workshop is open to the public.

DATES: The pre-assessment workshop will be held Tuesday, March 18, 2025 from 9 a.m. until 4 p.m. (Pacific Standard Time) or until business for the day has been completed.

ADDRESSES: The pre-assessment workshop will be conducted as an online meeting. Specific meeting information, including the agenda and directions on how to join the meeting and system requirements, will be provided in the workshop announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The purpose of the pre-assessment workshop is to review proposed data inputs, modeling approaches, and any other pertinent information to inform 2025 stock assessments for rougheye/blackspotted rockfish and sablefish. The goal of the pre-assessment workshop is to promote dialogue and a common understanding regarding the best data, analytical, and modeling approaches applicable to these assessments. Stock assessment teams will solicit advice from data stewards, stakeholders, and fishery managers knowledgeable about these species.

No management actions will be decided by the workshop participants. The participants' role will be the development of recommendations for consideration by the stock assessment teams assigned to conduct these assessments. Assessments for these stocks are tentatively scheduled for peer review during a Stock Assessment Review (STAR) panel on July 14-18, 2025. The Pacific Council and the Pacific Council's Scientific and Statistical Committee are scheduled to consider these draft assessments for use in informing management decisions at their September 2025 meeting in Spokane, WA.

Although nonemergency issues not contained in the workshop agenda may be discussed, those issues may not be the subject of formal action during this workshop. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: February 24, 2025.
Rey Israel Marquez,
Acting Deputy Director, Office of Sustainable Fisheries, National Marine Fisheries Service.

[FR Doc. 2025-03178 Filed 2-26-25; 8:45 am]

BILLING CODE 3510-22-P